DEPARTMENT OF ENERGY

Federal Energy Regulatory Commission

Combined Notice of Filings # 1

May 15, 2008.

Take notice that the Commission received the following electric rate filings:

Docket Numbers: ER99-2156-013; ER96-719-019; ER97-2801-020.

Applicants: Cordova Energy Company LLC; MidAmerican Energy Company; PacifiCorp.

Description: Cordova Energy Co, LLC et al. submits a revised table of assets to its 3/31/08 filing.

Filed Date: 05/09/2008.

Accession Number: 20080514-0160.

Comment Date: 5 p.m. Eastern Time on Friday, May 30, 2008.

Docket Numbers: ER01-1071-011; ER06-9-006; ER05-1281-006; ER03-34-010; ER06-1261-005; ER03-1104-007; ER03-1105-007; ER08-197-004; ER07-904-002; ER98-2076-014; ER98-4222-012; ER07-1157-003; ER01-174-003; ER07-875-002.

Applicants: Badger Windpower, LLC; FPL Energy Burleigh County Wind, LLC; FPL Energy Duane Arnold, LLC; FPL Energy Hancock County Wind, LLC; FPL Energy Mower County, LLC; FPL Energy North Dakota Wind, LLC; FPL Energy North Dakota Wind II, LLC; FPL Energy Oliver Wind II, LLC; FPL Energy Point Beach, LLC; Hawkeye Power Partners, LLC; Lake Benton Power Partners II, LLC; Logan Wind Energy LLC; Osceola Windpower, LLC; Peetz Table Wind Energy, LLC.

Description: FPL Energy Affiliates submits revised market-based rate tariffs—First Revised Sheet 1 to FERC Electric Tariff, Original Volume 11 et al.

Filed Date: 05/12/2008.

Accession Number: 20080514-0264.

Comment Date: 5 p.m. Eastern Time on Monday, June 02, 2008.

Docket Numbers: ER02-506-010; ER98-2783-013; ER99-3822-013; ER07-841-003; ER01-140-009; ER07-842-003; ER00-1895-011; ER07-843-003; ER07-844-003; ER07-845-003; ER07-846-000; ER99-4160-014; ER01-141-009; ER07-847-003; ER00-3696-010; ER01-943-009; ER05-1266-007; ER08-451-002; ER01-3109-011; ER01-1044-010; ER99-2157-010; ER02-553-009; ER03-42-014.

Applicants: Bluegrass Generation Company, L.L.C.; Bridgeport Energy, LLC; Casco Bay Energy Company, LLC; Dynegy Arlington Valley, LLC; Dynegy Danskammer, L.L.C.; Dynegy Kendall Energy, LLC; Dynegy Midwest Generation, Inc.; Dynegy Mohave, LLC; Dynegy Morro Bay, LLC; Dynegy Moss Landing, LLC; Dynegy Oakland, LLC; Dynegy Power Marketing, Inc.; Dynegy Roseton, L.L.C.; Dynegy South Bay, LLC; Griffith Energy LLC; Heard County Power, L.L.C.; Ontelaunee Power Operating Company, LLC; Plum Point Energy Associates, LLC; Renaissance Power, L.L.C.; Riverside Generating Company, L.L.C.; Rocky Road Power, LLC; Rolling Hills Generating, L.L.C.; Sithe/Independence Power Partners, L.P.

Description: Bluegrass Generation Company, LLC et al. submits Original Sheet 1 et al. to FERC Electric Tariff, First Revised Volume 1, in compliance with FERC's directives in Orders 697 & 697-A.

Filed Date: 05/02/2008.

Accession Number: 20080508-0195.

Comment Date: 5 p.m. Eastern Time on Friday, May 23, 2008.

Docket Numbers: ER05-665-004.

Applicants: Barrick Goldstrike Mines Inc.

Description: Withdrawal of Triennial update and application for finding as a Category 1 Seller of Barrick Goldstrike Mines Inc.

Filed Date: 05/14/2008.

Accession Number: 20080514-5071.

Comment Date: 5 p.m. Eastern Time on Wednesday, June 04, 2008.

Docket Numbers: ER06-738-011; ER06-739-011.

Applicants: Cogen Technologies Linden Venture, L.P.

Description: Cogen Technologies Linden Venture, LP submits Substitute First Revised Sheet 1 & Substitute First Revised Sheet 2, showing changes to the revised tariff sheets submitted on 12/14/07.

Filed Date: 05/13/2008.

Accession Number: 20080514-0190.

Comment Date: 5 p.m. Eastern Time on Tuesday, June 03, 2008.

Docket Numbers: ER08-656-001.

Applicants: Shell Energy North America (U.S.), L.P.

Description: Shell Energy North America (U.S.), L.P. submits Original Sheet 1 et al. to First Revised Rate Schedule 1.

Filed Date: 05/12/2008.

Accession Number: 20080514-0262.

Comment Date: 5 p.m. Eastern Time on Monday, June 02, 2008.

Docket Numbers: ER08-851-001.

Applicants: Valencia Power, LLC.

Description: Valencia Power, LLC submits revised pages of their proposed FERC Electric Tariff, Original Volume 1 in compliance with the requirements of FERC's Order 697.

Filed Date: 05/12/2008.

Accession Number: 20080514-0261.

Comment Date: 5 p.m. Eastern Time on Monday, June 02, 2008.

Docket Numbers: ER08-943-000.

Applicants: PJM Interconnection L.L.C.

Description: PJM Interconnection, L.L.C. submits the Market Monitoring Services Agreement, PJM Interconnection, L.L.C. Rate Schedule FERC 46.

Filed Date: 05/12/2008.

Accession Number: 20080514-0266.

Comment Date: 5 p.m. Eastern Time on Monday, June 02, 2008.

Docket Numbers: ER08-944-000.

Applicants: Xcel Energy Services, Inc.

Description: Xcel Energy Services, Inc submits the Notice of Cancellation of the Transmission Capacity and Planning Agreement dated 8/15/88 between Northern States Power Company, a Minnesota corporation and City of Springfield etc.

Filed Date: 05/12/2008.

Accession Number: 20080514-0259.

Comment Date: 5 p.m. Eastern Time on Monday, June 02, 2008.

Docket Numbers: ER08-945-000.

Applicants: Westar Energy, Inc.

Description: Kansas Gas and Electric Company submits Fourth Revised Sheet 1 and Third Revised Sheet 3 of Rate Schedule FERC 152 a Wholesale Electric Service Agreement between KGE and the Missouri Public Service etc.

Filed Date: 05/12/2008.

Accession Number: 20080514-0258.

Comment Date: 5 p.m. Eastern Time on Monday, June 02, 2008.

Docket Numbers: ER08-946-000.

Applicants: California Independent System Operator Corporation.

Description: California Independent System Operator Corporation submits notice regarding the revised transmission Access Charges effective 2/20/08.

Filed Date: 05/12/2008.

Accession Number: 20080514-0257.

Comment Date: 5 p.m. Eastern Time on Monday, June 02, 2008.

Docket Numbers: ER08-947-000.

Applicants: Goodman, James A.

Description: Tiverton Power Inc et al. submits a notice of cancellation of the Market-Based Rate Tariff of James Goodman, Receiver.

Filed Date: 05/13/2008.

Accession Number: 20080514-0256.

Comment Date: 5 p.m. Eastern Time on Tuesday, June 03, 2008.

Docket Numbers: ER08-948-000.

Applicants: San Diego Gas & Electric Company.

Description: San Diego Gas & Electric Company submits changes in its transmission revenue requirement and rate revisions related to changes to Post-Employment Benefits Other Than Pensions expense levels.

Filed Date: 05/13/2008.

Accession Number: 20080514-0263.

Comment Date: 5 p.m. Eastern Time on Tuesday, June 03, 2008.

Docket Numbers: ER08-949-000.

Applicants: Westar Energy, Inc.

Description: Westar Energy Inc submits a Petition for Approval of Settlement Agreement.

Filed Date: 05/13/2008.

Accession Number: 20080514-0254.

Comment Date: 5 p.m. Eastern Time on Tuesday, June 03, 2008.

Docket Numbers: ER08-950-000.

Applicants: ISO New England Inc.

Description: ISO New England, Inc & Northeast Utilities Service Company et al. submits an unexecuted conforming Standard Large Generator Interconnection Agreement with Russell Biomass, LLC under Rate Schedule 22.

Filed Date: 05/13/2008.

Accession Number: 20080514-0255.

Comment Date: 5 p.m. Eastern Time on Tuesday, June 03, 2008.

Docket Numbers: ER08-951-000.

Applicants: PSEG Energy Resources & Trade LLC.

Description: PSEG Energy Resources & Trade, LLC submits Rate Schedule FERC 3.

Filed Date: 05/13/2008.

Accession Number: 20080514-0191.

Comment Date: 5 p.m. Eastern Time on Tuesday, June 03, 2008.

Take notice that the Commission received the following open access transmission tariff filings:

Docket Numbers: OA07-52-003.

Applicants: Puget Sound Energy, Inc.

Description: Order No. 890 OATT Filing of Puget Sound Energy, Inc. (Corrected First Revised Sheet No. 184).

Filed Date: 05/14/2008.

Accession Number: 20080514-5100.

Comment Date: 5 p.m. Eastern Time on Wednesday, June 04, 2008.

Take notice that the Commission received the following public utility holding company filings:

Docket Numbers: PH08-24-000; PH08-25-000.

Applicants: Horizon Asset Management, Inc.

Description: Horizon Asset Management, Inc submits two modifications of exemption on Form 65A .

Filed Date: 05/07/2008.

Accession Number: 20080514-0272.

Comment Date: 5 p.m. Eastern Time on Wednesday, May 28, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-11728 Filed 5-23-08; 8:45 am]

BILLING CODE 6717-01-P